DEPARTMENT OF TRANSPORTATION

Federal Highway Administration

Environmental Impact Statement: Mobile County, AL

AGENCY: Federal Highway Administration (FHWA), DOT.

ACTION: Rescind Notice of Intent.

SUMMARY: The FHWA is issuing this notice to advise the public that the Notice of Intent published on August 28, 2002, to prepare an Environmental Impact Statement (EIS) for a proposed highway project in Mobile County, Alabama is being rescinded.

FOR FURTHER INFORMATION CONTACT: Mr. Mark D. Bartlett, Division Administrator, Federal Highway Administration, 500 Eastern Boulevard, Suite 200, Montgomery, Alabama 36117-2018, Telephone (334) 223-7370.

SUPPLEMENTARY INFORMATION: The FHWA is rescinding the notice of intent to prepare an EIS on a proposal to construct a “loop” around the western side of Mobile from I-10 southwest of the city of Mobile to I-65 north of Mobile. The project is being rescinded since the Alabama Department of Transportation has decided not to pursue this project at this time.

(Catalog of Federal Domestic Assistance Program Number 20.205, Highway Planning and Construction. The regulations implementing Executive Order 12372 regarding intergovernmental consultation on Federal programs and activities apply to this program.)

William R. Van Luchene,
Environmental Engineer, Montgomery, Alabama.

[FR Doc. E8-10053 Filed 5-6-08; 8:45 am]

BILLING CODE 4910-22-P